DEPARTMENT OF TRANSPORTATION

Federal Aviation Administration

14 CFR Part 39

[Docket No. 2003-NM-247-AD; Amendment 39-13375; AD 2003-24-06]

RIN 2120-AA64

Airworthiness Directives; Dassault Model Mystere-Falcon 200 Series Airplanes

AGENCY: Federal Aviation Administration, DOT.

ACTION: Final rule; request for comments.

SUMMARY: This amendment adopts a new airworthiness directive (AD) that is applicable to all Dassault Model Mystere-Falcon 200 series airplanes. This action requires a one-time inspection of the fire extinguishing pipe for each engine to determine whether holes for dispersal of fire-extinguishing agent are present, and corrective action if necessary. This action is necessary to ensure that the flightcrew is able to extinguish an engine fire, should one occur. Inability to extinguish an engine fire could result in loss of control of the airplane. This action is intended to address the identified unsafe condition.

DATES: Effective December 1, 2003.

The incorporation by reference of certain publications listed in the regulations is approved by the Director of the Federal Register as of December 1, 2003.

Comments for inclusion in the Rules Docket must be received on or before December 31, 2003.

ADDRESSES: Submit comments in triplicate to the Federal Aviation Administration (FAA), Transport Airplane Directorate, ANM-114, Attention: Rules Docket No. 2003-NM-247-AD, 1601 Lind Avenue, SW., Renton, Washington 98055-4056. Comments may be inspected at this location between 9 a.m. and 3 p.m., Monday through Friday, except Federal holidays. Comments may be submitted via fax to (425) 227-1232. Comments may also be sent via the Internet using the following address: 39-anm-iarcomment@faa.gov. Comments sent via the Internet must contain “Docket No. 2003-NM-247-AD” in the subject line and need not be submitted in triplicate. Comments sent via fax or the Internet as attached electronic files must be formatted in Microsoft Word 97 or 2000 or ASCII text.

The service information referenced in this AD may be obtained from Dassault Falcon Jet, P.O. Box 2000, South Hackensack, New Jersey 07606. This information may be examined at the FAA, Transport Airplane Directorate, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: The Direction Generale de l'Aviation Civile (DGAC), which is the airworthiness authority for France, recently notified the FAA that an unsafe condition may exist on all Dassault Model Mystere-Falcon 200 series airplanes. The DGAC advises that, during a maintenance visit, it was discovered that the fire extinguishing pipes for both engines did not have the holes necessary to disperse fire extinguishing agent. This condition, if not corrected, could result in inability to extinguish an engine fire, should one occur, and consequent loss of control of the airplane.

Explanation of Relevant Service Information

Dassault has issued Alert Service Bulletin F200-A120, Revision 1, dated November 13, 2003. That service bulletin describes procedures for a one-time general visual inspection of the fire extinguishing pipe for each engine to determine whether six holes for dispersal of fire-extinguishing agent are present between the rear coupling and the front attaching lug of the pipe, and corrective action if necessary. If the holes are not present, corrective action includes replacing the fire extinguishing pipe with a new pipe that has the necessary holes, or drilling the necessary holes in the existing pipe. Accomplishment of the action specified in the service bulletin is intended to adequately address the identified unsafe condition. The DGAC classified this service bulletin as mandatory and issued French emergency airworthiness directive F-2003-419(B), dated November 13, 2003, to ensure the continued airworthiness of these airplanes in France.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to ensure that the flightcrew is able to extinguish an engine fire, should one occur. Inability to extinguish an engine fire could result in loss of control of the airplane. This AD requires a one-time inspection of the fire extinguishing pipe for each engine to determine whether holes for dispersal of fire-extinguishing agent are present, and corrective action if necessary. The actions are required to be accomplished in accordance with the service bulletin described previously, except as discussed below.

Difference Between AD, Service Bulletin, and French Airworthiness Directive

Operators should note that, although the referenced service bulletin and French emergency airworthiness directive specify that the inspection of the fire extinguishing pipes must be accomplished before further flight, this AD requires that this inspection be accomplished within 10 days after the effective date of this AD. In developing an appropriate compliance time for this AD, we considered not only the manufacturer's and DGAC's recommendation, but the degree of urgency associated with addressing the subject unsafe condition, and the time necessary to perform the inspection. In light of all of these factors, we find a compliance time of 10 days represents an appropriate interval of time for affected airplanes to continue to operate without compromising safety. This issue has been coordinated with the DGAC, and they have no objection.

Operators should note that, although the Accomplishment Instructions of the referenced service bulletin describe procedures for completing a card recording compliance with the service bulletin and submitting it to the manufacturer, this AD does not require those actions.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-247-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-24-06 Dassault Aviation: Amendment 39-13375. Docket 2003-NM-247-AD.

Applicability: All Model Mystere-Falcon 200 series airplanes, certificated in any category.

Compliance: Required as indicated, unless accomplished previously.

To ensure that the flightcrew is able to extinguish an engine fire, should one occur, accomplish the following:

One-Time Inspection and Corrective Action

(a) Within 10 days after the effective date of this AD, perform a one-time general visual inspection of the fire extinguishing pipe for each engine to determine whether six holes for dispersal of fire-extinguishing agent are present between the rear coupling and the front attaching lug of the pipe, per the Accomplishment Instructions of Dassault Alert Service Bulletin F200-A120, Revision 1, dated November 13, 2003; except that it is not required to complete the card recording compliance with the service bulletin and return it to the manufacturer.

(1) If all required holes are present on the fire extinguishing pipes for both engines, no further action is required by this paragraph.

(2) For any fire extinguishing pipe missing any or all required holes, before further flight, replace the pipe with a new pipe that has the required holes, or drill the required holes in the existing pipe, per the Accomplishment Instructions of the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Parts Installation

(b) As of the effective date of this AD, no person may install, on any airplane, a fire extinguishing pipe for an engine unless it has been inspected per paragraph (a) of this AD and found to have all holes required for dispersal of fire-extinguishing agent.

Alternative Methods of Compliance

(c) In accordance with 14 CFR 39.19, the Manager, International Branch, ANM-116, Transport Airplane Directorate, FAA, is authorized to approve alternative methods of compliance for this AD.

Incorporation by Reference

(d) The actions shall be done in accordance with Dassault Alert Service Bulletin F200-A120, Revision 1, dated November 13, 2003. This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 2: The subject of this AD is addressed in French emergency airworthiness directive F-2003-419(B), dated November 13, 2003.

Effective Date

(e) This amendment becomes effective on December 1, 2003.

Issued in Renton, Washington, on November 20, 2003.
Kalene C. Yanamura,
Acting Manager, Transport Airplane Directorate, Aircraft Certification Service.

[FR Doc. 03-29570 Filed 11-28-03; 8:45 am]

BILLING CODE 4910-13-P